DEPARTMENT OF AGRICULTURE

Forest Service

Lake Tahoe Basin Federal Advisory Committee

AGENCY: Forest Service, USDA.

ACTION: Notice of meeting.

SUMMARY: The Lake Tahoe Basin Federal Advisory Committee will hold a meeting on March 20, 2003, at the Inn By The Lake, 3300 Lake Tahoe Blvd., South Lake Tahoe, CA. This Committee, established by the Secretary of Agriculture on December 15, 1998, (64 FR 2876) is chartered to provide advice to the Secretary on implementing the terms of the Federal Interagency Partnership on the Lake Tahoe Region and other matters raised by the Secretary.

DATES: The meeting will be held March 20, 2003 beginning at 10 a.m. and ending at 4:30 p.m.

ADDRESSES: The meeting will be held at Inn By The Lake, 3300 Lake Tahoe Blvd., South Lake Tahoe, CA 96150.

FOR FURTHER INFORMATION CONTACT: Maribeth Gustafson or Jeannie Stafford, Lake Tahoe Basin Management Unit, Forest Service, 870 Emerald Bay Road Suite 1, South Lake Tahoe, CA 96150, (530) 573-2642.

SUPPLEMENTARY INFORMATION: The committee will meet jointly with the Lake Tahoe Basin Executives Committee. Items to be covered on the agenda include: A report on the Tahoe Intergrate Information Management System (TIIMS), Pathway 2007 science perspective, and update on the USACE Lake Tahoe Framework Study, USFS Fuels Actions Plan status, updates from the Lands and Budget Subcommittees, Cave Rock environmental decision, and public comment. All Lake Tahoe Basin Federal Advisory Committee meetings are open the public. Interested citizens are encouraged to attend. Issues may be brought to the attention of the Committee during the open public comment period at the meeting or by filing written statements with the secretary for the Committee before or after the meeting. Please refer any written comments to the Lake Tahoe Basin Management Unit at the contact address stated above.

Dated: February 13, 2003.
Maribeth Gustafson,
Forest Supervisor.

[FR Doc. 03-4163 Filed 2-20-03; 8:45 am]

BILLING CODE 3410-11-M